NATIONAL SCIENCE FOUNDATION

National Science Board; Sunshine Act Meetings; Notice

The National Science Board's ad hoc Committee on Nominations for the NSB Class of 2016-2022, pursuant to NSF regulations (45 CFR part 614), the National Science Foundation Act, as amended (42 U.S.C. 1862n-5), and the Government in the Sunshine Act (5 U.S.C. 552b), hereby gives notice in regard to the scheduling of a meeting for the transaction of National Science Board business, as follows:

Date and Time: Wednesday, November 4, 2015 at 11:30-12:30 p.m. EST.

Subject Matter: Committee chair's remarks, discussion of change in committee members; discussion of the nomination submissions and next steps; and update timeline and discuss assignments.

Status: Closed.

This meeting will be held by teleconference originating at the National Science Board Office, National Science Foundation, 4201 Wilson Blvd., Arlington, VA 22230.

Please refer to the National Science Board Web site (www.nsf.gov/nsb) for information or schedule updates, or contact: Brandon Powell (bjpowell@nsf.gov), National Science Foundation, 4201 Wilson Blvd., Arlington, VA 22230.

Kyscha Slater-Williams,
Program Specialist.

[FR Doc. 2015-27866 Filed 10-29-15; 8:45 am]

BILLING CODE 7555-01-P